DEPARTMENT OF THE INTERIOR

Fish and Wildlife Service

[FWS-R9-IA-2008-N0254; 96300-1671-0000-P5]

Receipt of Applications for Permit

AGENCY: Fish and Wildlife Service, Interior.

ACTION: Notice of receipt of applications for permit.

SUMMARY: The public is invited to comment on the following applications to conduct certain activities with marine mammals.

DATES: Written data, comments or requests must be received by November 14, 2008.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 212, Arlington, Virginia 22203; fax 703/558-7725; or via e-mail at DMAFR@fws.gov.

FOR FURTHER INFORMATION CONTACT: Division of Management Authority, telephone 703/358-2104.

SUPPLEMENTARY INFORMATION:

Endangered Marine Mammals

The public is invited to comment on the following applications for a permit to conduct certain activities with endangered marine mammals. The applications were submitted to satisfy requirements of the Marine Mammal Protection Act of 1972 (MMPA), as amended (16 U.S.C. 1361 et seq.), and the regulations governing endangered species (50 CFR Part 17) and marine mammals (50 CFR Part 18). Written data, comments, or requests for copies of the complete applications or requests for a public hearing on these applications should be submitted to the Director (address above). Anyone requesting a hearing should give specific reasons why a hearing would be appropriate. The holding of such a hearing is at the discretion of the Director.

The following applicants request permits to import polar bears (Ursus maritimus) taken from the Gulf of Boothia polar bear population in Canada as sport hunted trophies for the purpose of enhancement of the survival of the species under section 104(c)(4)(A) of the MMPA because these specimens would not be eligible for importation under 104(c)(5)(A). These specimens were taken prior to the date when the Endangered Species Act prohibitions would apply.

Applicant: Dennis H. Dunn, Kirkland, WA, PRT-189427.

Applicant: Keith C. Halstead, Greenville, SC, PRT-189429.

Applicant: Keith J. Atcheson, Butte, MT, PRT-189430.

Applicant: Kevin J. Wieczorek, Chesterfield, MI, PRT-189431.

Applicant: Marcus C. Hansen, Chester Springs, PA, PRT-189432.

Applicant: Ben A. Hamel, Petoskey, MI, PRT-189434.

Applicant: Aaron R. Neilson, Royse City, TX, PRT-191814.

Concurrent with the publication of this notice in the Federal Register, the Division of Management Authority is forwarding copies of the above applications to the Marine Mammal Commission and the Committee of Scientific Advisors for their review.

Dated: September 5, 2008.
Lisa J. Lierheimer,
Senior Permit Biologist, Branch of Permits, Division of Management Authority.

[FR Doc. E8-24550 Filed 10-14-08; 8:45 am]

BILLING CODE 4310-55-P